COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add products and a service to the Procurement List that will be furnished by nonprofit agencies employing persons who are blind or have other severe disabilities, and deletes products and a service previously furnished by such agencies.

Comments Must Be Received On Or Before: 7/18/2011.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Barry S. Lineback, Telephone: (703) 603-7740, Fax: (703) 603-0655, or e-mail: CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 46-48c) in connection with the products and service proposed for addition to the Procurement List.

Comments on this certification are invited. Commenters should identify the statement(s) underlying the certification on which they are providing additional information.

End of Certification

The following products and service are proposed for addition to Procurement List for production by the nonprofit agencies listed:

Products:

Cell Phone Privacy and Glare Shields

NSN: 7045-00-NIB-0326—Glare Shield for iPhone.

NSN: 7045-00-NIB-0327—Glare Shield for Blackberry Bold.

NSN: 7045-00-NIB-0328—Glare Shield for Blackberry Storm2.

NSN: 7045-00-NIB-0366—Glare Shield for Blackberry Curve2.

NSN: 7045-00-NIB-0329—Universal PDA Glare Shield.

NSN: 7045-00-NIB-0330—Privacy Shield for iPhone.

NSN: 7045-00-NIB-0331—Privacy Shield for Blackberry Bold.

NSN: 7045-00-NIB-0332—Privacy Shield for Blackberry Storm2.

NSN: 7045-00-NIB-0333—Privacy Shield for PDA, Universal.

NSN: 7045-00-NIB-0365—Privacy Shield for Blackberry Curve2.

NPA: Wiscraft, Inc., Milwaukee, WI.

Contracting Activity: General Services Administration, New York, NY.

Coverage: B-List for the Broad Government Requirement as aggregated by the General Services Administration.

NSN: 7930-01-490-7301—Detergent, Laundry, Biobased with Bleach, Powdered.

NPA: Association for the Blind and Visually Impaired—Goodwill Industries of Greater Rochester, Rochester, NY.

Contracting Activity: General Services Administration, Fort Worth, TX.

Coverage: A-List for the Total Government Requirement as aggregated by the General Services Administration.

Pocket Folder, Classification and Retention Envelope/Jacket

NSN: 7530-00-NIB-0993—Letter Size, Earth Red.

NSN: 7530-00-NIB-0994—Letter Size, Light Green.

NSN: 7530-00-NIB-0995—Letter Size, Dark Green.

NSN: 7530-00-NIB-0996—Letter Size, Light Blue.

NSN: 7530-00-NIB-0997—Letter Size, Dark Blue.

NSN: 7530-00-NIB-0998—Letter Size, Dark Red.

NSN: 7530-00-NIB-0999—Letter Size, Yellow.

NSN: 7530-00-NIB-1000—Legal Size, Earth Red.

NSN: 7530-00-NIB-1001—Legal Size, Light Green.

NSN: 7530-00-NIB-1002—Retention Envelope/Jacket, Letter and Legal Sizes.

NPA: Georgia Industries for the Blind, Bainbridge, GA.

Contracting Activity: General Services Administration, New York, NY.

Coverage: A-List for the Total Government Requirement as aggregated by the General Services Administration.

NSN: 7045-00-NIB-0369—Privacy Shield, 16:9 Aspect Ratio Computer Monitor, 14.0 Widescreen.

NSN: 7045-00-NIB-0370—Privacy Shield, 16:9 Aspect Ratio Computer Monitor, 15.6 Widescreen.

NSN: 7045-00-NIB-0374—Privacy Shield, 16:9 Aspect Ratio Computer Monitor, 17.3 Widescreen.

NSN: 7045-00-NIB-0371—Privacy Shield, 16:9 Aspect Ratio Computer Monitor, 18.5 Widescreen.

NSN: 7045-00-NIB-0372—Privacy Shield, 16:9 Aspect Ratio Computer Monitor, 20.0 Widescreen.

NSN: 7045-00-NIB-0373—Privacy Shield, 16:9 Aspect Ratio Computer Monitor, 21.5 Widescreen.

Coverage: A-List for the Total Government Requirement as aggregated by the General Services Administration.

NSN: 7045-00-NIB-0367—Anti-Glare Display Shield, iPad.

NSN: 7045-00-NIB-0368—Privacy Shield, iPad.

NSN: 7045-00-NIB-0345—Privacy Shield, Netbooks, 10.1 Widescreen.

Coverage: B-List for the Broad Government Requirement as aggregated by the General Services Administration.

NPA: Wiscraft, Inc., Milwaukee, WI.

Contracting Activity: General Services Administration, New York, NY.

MR SKILCRAFT Rags, Cleaning

NSN: M.R. 1031—Red.

NSN: M.R. 1032—White.

NPA: Winston-Salem Industries for the Blind, Inc., Winston-Salem, NC.

Contracting Activity: Military Resale-Defense Commissary Agency, Fort Lee, VA.

Coverage: C-List for the requirements of military commissaries and exchanges as aggregated by the Defense Commissary Agency.

Tool Kit, Peel & Stick NonSkid Application

NSN: 5180-00-NIB-0007—New Installation, Standard Sizes.

NSN: 5180-00-NIB-0008—New Installation, Custom Kits.

NSN: 5180-00-NIB-0009—Repair and Maintenance, All Kits.

NPA: Louisiana Association for the Blind, Shreveport, LA.

Contracting Activity: Dept of Homeland Security, U.S. Coast Guard, HQ Contract Operations (CG-912), Washington, DC.

Coverage: C-List for 100% of the requirement of the U.S. Coast Guard as aggregated by the U.S. Coast Guard, Lockport, LA.

Professional Grade Paint Brushes, Roller Covers and Roller Frames

NSN: 8020-00-NIB-0011—Brush, Paint, Flat Sash, 3″, Silver Filament.

NSN: 8020-00-NIB-0035—Brush, Paint, Angle Sash, 2.5″, White Filament.

NSN: 8020-00-NIB-0039—Frame, Paint roller, Professional Grade.

NSN: 8020-00-NIB-0040—Pole, Extension, Paint 4-8″.

NSN: 8020-00-NIB-0041—Tray, Paint, Plastic, 1 Quart.

NSN: 8020-00-NIB-0042—Liner, Tray, Paint, Plastic, 1 Quart.

NSN: 8020-00-NIB-0013—Brush, Paint, Angle Sash, 2″, Silver Filament.

NSN: 8020-00-NIB-0014—Brush, Paint, Angle Sash, 2.5″ Silver Filament.

NSN: 8020-00-NIB-0019—Cover, Paint roller, 9″, Knit fabric, Extra Strength Core, 1/2″ Nap.

NSN: 8020-00-NIB-0023—Cover, Paint Roller, 9″, Woven fabric, 3/8″ NAP; High Capacity, Professional Grade.

NSN: 8020-00-NIB-0024—Cover, Paint Roller, 9″, Woven fabric, 1/2″ Nap.

NSN: 8020-00-NIB-0033—Brush, Paint, Flat Sash, 3″, White Filament.

NSN: 8020-00-NIB-0020—Cover, Paint Roller, 9″, Knit Fabric, 3/8″ NAP; High Capacity.

NSN: 8020-00-NIB-0034—Brush, Paint, Angle Sash, 2″, White Filament.

NPA: Industries for the Blind, Inc., West Allis, WI.

Contracting Activity: General Services Administration, FSS/Tools Acquisition Division I, Kansas City, MO.

Coverage: B-List for the Broad Government Requirement as aggregated by the General Services Administration.

NSN: M.R. 1150—Set, Mold, Cupcake, Red, Giant Cupcake, 3pc.

NSN: M.R. 1151—Set, Pan, Bake, Perfect Brownie Pan, 3pc.

NSN: M.R. 1152—Set, Pasta Cooker, Blue, Pasta Express, 7pc.

NSN: M.R. 1155—Glove, Oven, Flexi.

NSN: M.R. 1156—Device, Cutting, Multi-Use, Green, Snip It.

NSN: M.R. 1157—Set, Knife and Peeler, Ceramic, Kitchen Samurai.

NPA: Industries for the Blind, Inc., West Allis, WI.

Contracting Activity: Military Resale-Defense Commissary Agency, Fort Lee, VA.

Coverage: C-List for the requirements of military commissaries and exchanges as aggregated by the Defense Commissary Agency.

NSN: 7045-00-NIB-0348—Encrypted Compact Disc, Recordable, 25 CDs on Spindle, Silver.

NSN: 7045-00-NIB-0349—Encrypted Digital Video Disc,—Recordable, 25 DVDs on Spindle, Silver.

NPA: North Central Sight Services, Inc., Williamsport, PA.

Contracting Activity: Defense Logistics Agency Troop Support, Philadelphia, PA.

Coverage: A-List for the Total Government Requirement as aggregated by the Defense Logistics Agency, Philadelphia, PA.

NSN: 8465-01-580-1664—MOLLE Component, Shoulder Straps, Frame, Enhanced, OCP.

NPAs: Winston-Salem Industries for the Blind, Inc., Winston-Salem, NC; Blind Industries & Services of Maryland, Baltimore, MD.

NSN: 8465-01-580-1316—Hydration System, MOLLE Components, OCP.

NPA: The Lighthouse for the Blind, Inc. (Seattle Lighthouse), Seattle, WA.

NSN: 8465-01-580-1319—Carrier, Hydration System, MOLLE Components, OCP.

NPA: Lions Services, Inc., Charlotte, NC.

Contracting Activity: Department of the Army Research, Development, & Engineering Command, Natick, MA.

Coverage: C-List for 100% of the requirement for initial fielding and Rapid Fielding Initiative of the Department of the Army, as aggregated by the Department of the Army Research, Development, & Engineering Command, Natick, MA.

SERVICE:

Service Type/Location: Laundry Services, Department of Veterans Affairs, Indianapolis, IN, (Offsite: 118 E Court Street, Paris, IL).

NPA: Human Resources Center of Edgar and Clark Counties, Paris, IL.

Contracting Activity: Department of Veterans Affairs, Indianapolis, IN.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products and service to the Government.

3. There are no known regulatory alternatives which would accomplish the objectives of the Javits-Wagner-O'Day Act (41 U.S.C. 46-48c) in connection with the products and service proposed for deletion from the Procurement List.

End of Certification

The following products and service are proposed for deletion from the Procurement List:

Products:

Line, Tent

NSN: 8340-00-252-2268.

NSN: 8340-00-252-2270.

NSN: 8340-00-252-2271.

NSN: 8340-00-252-2273.

NSN: 8340-00-252-2280.

NSN: 8340-00-252-2282.

NSN: 8340-00-252-2285.

NSN: 8340-00-252-2286.

NSN: 8340-00-252-2293.

NSN: 8340-00-252-2297.

NSN: 8340-00-252-2299.

NSN: 8340-00-556-9689.

NPA: ASPIRO, Inc., Green Bay, WI.

Contracting Activity: Defense Logistics Agency Troop Support, Philadelphia, PA.

NSN: 7520-01-578-9289—Highlighter, Biodegradable.

NPA: West Texas Lighthouse for the Blind, San Angelo, TX.

Contracting Activity: General Services Administration, New York, NY.

Service

Service Type/Location: Grounds Maintenance, Naval & Marine Corps Reserve Center, 410 N. Gettysburg Ave., Dayton, OH.

NPA: Eastway Corporation, Dayton, OH.

Contracting Activity: Dept of the Navy, NSWC Crane, Crane, IN.

Barry S. Lineback,
Director, Business Operations.

[FR Doc. 2011-15066 Filed 6-16-11; 8:45 am]

BILLING CODE 6353-01-P